DELAWARE RIVER BASIN COMMISSION

Notice of Commission Meeting and Public Hearing

Notice is hereby given that the Delaware River Basin Commission will hold an informal conference followed by a public hearing on Friday, May 31, 2002. The hearing will be part of the Commission's regular business meeting. The conference session and business meeting both are open to the public. The conference session will be held at Grey Towers, 151 Grey Towers Drive, Milford, Pennsylvania. The business meeting also will be held at Grey Towers, unless there is a possibility of bad weather in the afternoon or evening. In that event, the business meeting will be held at the Best Western Inn at Hunt's Landing, 120 Route 6 and Route 209, also in Milford, Pennsylvania. In case of doubt about the hearing location, contact the DRBC on May 31 at 609-883-9500. Directions to both locations are posted on the Commission's web site, http://www.DRBC.net.

The conference among the Commissioners and staff will begin at 10 a.m. Topics of discussion will include: an update on a proposal for protecting existing water quality in the Lower Delaware River pending a possible special protection waters designation; an update on PCB TMDL development and sampling activities; a proposed resolution authorizing the Executive Director to engage a consultant to assist in development of a PCB fate and transport model for the Delaware Estuary; a proposal to engage the Chesapeake Biological Laboratory of the University of Maryland to conduct carbon analytical work in connection with development of a TMDL for PCBs in the Delaware Estuary; a report on the May meeting of the DRBC's Flow Management Technical Advisory Committee; and proposed resolutions authorizing the Executive Director to renew DRBC's contract with the Northeast-Midwest Institute and to engage a consultant to perform a position classification and compensation analysis.

The subjects of the public hearing to be held during the 1 p.m. business meeting include, in addition to the dockets listed below, a resolution amending Article 8 of the Administrative Manual—Rules of Practice and Procedure relating to fees associated with Commission responses to Freedom of Information Act (“FOIA”) requests. In the event a resolution or docket is considered involving modification of the Commission's Comprehensive Plan to adjust releases from the New York City Reservoirs to protect tailwaters fisheries, then a hearing on such proposal also will be held. Please contact the Commission Secretary after May 16 for information on the status of this item.

The dockets scheduled for public hearing are as follows:

1. Boyertown Foundry Company D-85-80 RENEWAL 2. A renewal of a ground water withdrawal project to supply up to 3.54 million gallons (mg)/30 days of water to the applicant's foundry facility (formerly Eastern Foundry Company) from existing Well No. 1A in the Leithsville Dolomite Formation. No increase in allocation is proposed. The project is located in Boyertown Borough, Berks County, Pennsylvania.

2. Schwenksville Borough Authority D-98-30 CP. A project to increase the rated capacity of the applicant's existing 0.206 million gallons per day (mgd) sewage treatment plant (STP) to 0.3 mgd. The STP will continue to provide secondary biological treatment via trickling filter and activate sludge systems to serve the Borough of Schwenksville and adjacent portions of Perkiomen and Lower Frederick Townships, all in Montgomery County, Pennsylvania. The STP is situated just west of Perkiomen Creek, to which it will continue to discharge, and just east of State Route 73 between Church and Maple Streets in the Borough of Schwenksville, Montgomery County, Pennsylvania.

3. McGinley Mills, Inc. D-91-55 RENEWAL. A renewal of a ground water withdrawal project to continue withdrawal of 13.4 mg/30 days to supply the applicant's industrial facility from existing Wells Nos. 1 and 2 in the Allentown formation. The project is located in the Town of Phillipsburg, Warren County, New Jersey

4. Maidencreek Township Authority D-91-58 CP RENEWAL. A renewal of a ground water withdrawal project with an increase of withdrawal from 13.2 mg/30 days to 22.7 mg/30 days to supply the applicant's public water distribution system from existing Wells No. 1, 2, and 3 in the Epler and Allentown formations. The project is located in Maidencreek Township, Berks County, Pennsylvania.

5. New Jersey Department of Corrections—Bayside State Correctional Facility D-2000-10 CP. A ground water withdrawal project to supply up to 30 mg/30 days of water to the applicant's correctional facility and farm from new Well No. 5 in the Cohansey-Kirkwood aquifer and to retain the withdrawal limit from all wells at 30 mg/30 days. The project is located in Maurice River Township, Cumberland County, New Jersey.

6. Pennridge Wastewater Treatment Authority D-2001-1 CP. A project to expand the applicant's existing advanced secondary STP from 4.0 mgd to 4.325 mgd via trickling filter and chemical addition processes. Located in both West Rockhill Township and Sellersville Borough, both in Bucks County, Pennsylvania, the STP will serve the Boroughs of Perkasie, Sellersville, Silverdale and Telford, and the Townships of East Rockhill, Hilltown and West Rockhill, all in Bucks County. Treated effluent will continue to be discharged to the adjacent East Branch Perkiomen Creek through an existing outfall.

7. West Vincent Township D-2001-60. A project to construct a 0.11 mgd aerated-lagoon type STP and effluent spray irrigation system to serve proposed housing and commercial office development on the northeast corner of Routes 100 and 401 in West Vincent Township, Chester County, Pennsylvania. Following secondary treatment, effluent will be sprayed on 22 acres of adjacent farm and wooded lands. During inclement weather, STP effluent can be stored in on-site lagoons, so no discharge to nearby Birch Run Creek in the French Creek watershed is required.

8. Tidewater Utilities, Inc. D-2002-4 CP. A ground water withdrawal project to supply up to 7.95 mg/30 days of water to the applicant's public water distribution system from new Wells Nos. L5 and L9 in the Columbia Formation. Wells Nos. L5 and L9 will be interconnected with the applicant's eleven other wells, which are located outside the Delaware River Basin. The project is located in the Broadkill River watershed in Lewes/Rehoboth, Sussex County, Delaware.

9. Philadelphia Suburban Water Company D-2002-5 CP. A ground water withdrawal project to supply a combined total of 6.26 mg/30 days of water to the applicant's public water supply distribution system from new Kay Wells B and C, to be interconnected with nine existing wells currently comprising the Pennsylvania Suburban Water Company (PSW) UGS Northern Division service area, and to limit the withdrawal from all wells to 15.86 mg/30 days. Kay Well B is to be allocated at 2.80 mg/30 days and Kay Well C at 3.45 mg/30 days. The project is located in the Beaver Creek watershed in East Brandywine Township, Chester County, Pennsylvania. As proposed in the PADEP draft water supply permit, Special Condition I, the Kay Wells would be removed from service once a water treatment plant receiving water from PSW's Cornog Quarry Project (a proposed surface water withdrawal and storage project on the East Branch Brandywine Creek in Wallace Township, Chester County) is placed into operation. At such time, the DRBC's combined total allocation for the remaining wells is proposed to be limited to 9.6 mg/30 days.

10. Kidder Township D-2002-6 CP. A project to expand the 0.15 mgd Split Rock STP to process 0.4 mgd, while continuing to provide a tertiary level of treatment. The applicant proposes to purchase the existing STP from Vacation Charters, Ltd. and expand the sequencing batch reactor plant to serve future development at the Split Rock Resort and current flows from properties in the Lake Harmony and Split Rock areas, all within Kidder Township, Carbon County, Pennsylvania. The project is located about 2 miles west of the intersection of Interstate 80 and State Route 115. The existing STP owner will retain a spray irrigation permit to apply the effluent to its resort golf course, as needed, or allow it to discharge to Shingle Mill Run, a tributary of Tobyhanna Creek in the Lehigh River Watershed.

In addition to the public hearing items, the Commission will address the following at its 1 p.m. business meeting: Minutes of the April 3, 2002 business meeting; announcements; a report on Basin hydrologic conditions; reports by the Executive Director and General Counsel; discussion and possible Commission response to requests for a hearing to review the Commission's action on Docket D-98-11 CP of the Pennsylvania Suburban Water Company (formerly Philadelphia Suburban Water Company); and resolutions (1) authorizing the Executive Director to engage a consultant to assist in development of a PCB fate and transport model for the Delaware Estuary; (2) authorizing the Executive Director to engage the Chesapeake Biological Laboratory of the University of Maryland to conduct carbon analytical work in connection with development of a TMDL for PCBs in the Delaware Estuary; (3) authorizing the Executive Director to renew DRBC's contract with the Northeast-Midwest Institute; (4) authorizing the Executive Director to engage a consultant to performing a position classification and compensation analysis; (5) providing for election of the Commission Chair, Vice Chair and Second Vice Chair for the year 2002-03, commencing July 1, 2002; and (6) honoring N.G. Kaul. The meeting will conclude with an opportunity for public dialogue.

Documents relating to the dockets and other items may be examined at the Commission's offices. Preliminary dockets are available in single copies upon request. Please contact Thomas L. Brand at 609-883-9500 ext. 221 with any docket-related questions. Persons wishing to testify at this hearing are requested to register in advance with the Commission Secretary at 609-883-9500 ext. 203.

Individuals in need of an accommodation as provided for in the Americans With Disabilities Act who wish to attend the hearing should contact the Commission Secretary, Pamela M. Bush, directly at 609-883-9500 ext. 203 or through the New Jersey Relay Service at 1-800-852-7899 (TTY), to discuss how the Commission may accommodate your needs.

Dated: May 14, 2002.
Pamela M. Bush,
Commission Secretary.

[FR Doc. 02-12534 Filed 5-17-02; 8:45 am]

BILLING CODE 6360-01-P